SMALL BUSINESS ADMINISTRATION

Public Federal Regulatory Enforcement Fairness Hearing; Region I Regulatory Fairness Board

The U.S. Small Business Administration (SBA) Region I Regulatory Fairness Board and the SBA Office of the National Ombudsman will hold a public hearing on Friday, July 14, 2006, at 9 a.m. The meeting will take place at the Thomas P. O'Neill Federal Building, 10 Causeway Street, Room 265, Boston, MA 02222. The purpose of the meeting is to receive comments and testimony from small business owners, small government entities, and small non-profit organizations concerning regulatory enforcement and compliance actions taken by Federal agencies.

Anyone wishing to attend or to make a presentation must contact Joan Trudell, in writing or by fax, in order to be put on the agenda. Joan Trudell, Public Information Officer, SBA, Massachusetts District Office, Thomas P. O'Neill Federal Building, 10 Causeway Street, Room 265, Boston, MA 02222, phone (617) 565-5572 and fax (617) 565-5597, e-mail: joan.trudell@sba.gov.

For more information, see our Web site at http://www.sba.gov/ombudsman.

Matthew K. Becker,
Committee Management Officer.

[FR Doc. E6-10627 Filed 7-6-06; 8:45 am]

BILLING CODE 8025-01-P